CIVIL RIGHTS COLD CASE RECORDS REVIEW BOARD

[Agency Docket Number: CRCCRRB-2025-0019-N]

Notice of Formal Determination on Records Release

AGENCY: Civil Rights Cold Case Records Review Board.

ACTION: Notice.

SUMMARY: The Civil Rights Cold Case Records Review Board previously reviewed and made formal disclosure determinations on records related to civil rights cold case incident 2024-003-006 in which the National Archives and Records Administration (NARA) proposed postponements. NARA later withdrew 47 postponements and provided additional information about other postponements that led the Review Board to make new formal determinations on July 11, 2025. Additionally, NARA provided 72 pages of records to the Review Board related to a civil rights cold case incident to which the Review Board assigned the unique identifier 2024-003-032. NARA did not propose any postponements of disclosure. On July 16, 2025, the Review Board determined that all 72 pages in full should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Previous review board decision | New review board decision
2024-003-006 | 2024-NARA-03-0010 through 2024-NARA-03-0013 | Approve | Withdrawn by agency.
2024-003-006 | 2024-NARA-03-0014 | Approve with changes | Withdrawn by agency.
2024-003-006 | 2024-NARA-03-0015 and 2024-NARA-03-0016 | Approve | Withdrawn by agency.
2024-003-006 | 2024-NARA-03-0019 | Approve | Withdrawn by agency.
2024-003-006 | 2024-NARA-03-0020 | Approve with changes | Withdrawn by agency.
2024-003-006 | 2024-NARA-03-0021 through 2024-NARA-03-0032 | Approve | Withdrawn by agency.
2024-003-006 | 2024-NARA-03-0033 | Approve with changes | Withdrawn by agency.
2024-003-006 | 2024-NARA-03-0034 | Reject | Withdrawn by agency.
2024-003-006 | 2024-NARA-03-0035 | Approve with changes | Withdrawn by agency.
2024-003-006 | 2024-NARA-03-0036 through 2024-NARA-03-0040 | Approve | Withdrawn by agency.
2024-003-006 | 2024-NARA-03-0041 | Approve with changes | Withdrawn by agency.
2024-003-006 | 2024-NARA-03-0042 | Reject | Withdrawn by agency.
2024-003-006 | 2024-NARA-03-0043 | Approve with changes | Withdrawn by agency.
2024-003-006 | 2024-NARA-03-0044 through 2024-NARA-03-0058 | Approve | Withdrawn by agency.
2024-003-006 | 2024-NARA-03-0059 through 2024-NARA-03-0072 | Reject | Approve.

Authority: Pub. L. 115-426, 132 Stat. 5489 (44 U.S.C. 2107).

Dated: July 18, 2025.
Stephannie Oriabure,
Chief of Staff.

[FR Doc. 2025-13803 Filed 7-22-25; 8:45 am]

BILLING CODE 6820-SY-P